DEPARTMENT OF HEALTH AND HUMAN SERVICES

Centers for Disease Control and Prevention (CDC)

Disease, Disability, and Injury Prevention and Control Special Emphasis Panel (SEP): Initial Review

The meeting announced below concerns Green Housing Study: Follow-up Measurements of Housing Factors and Respiratory Health of Children Located in Cincinnati and Boston (U01), Funding Opportunity Announcement (FOA) EH12-001, initial review.

In accordance with Section 10(a)(2) of the Federal Advisory Committee Act (Pub. L. 92-463), the Centers for Disease Control and Prevention/Agency for Toxic Substances and Disease Registry (CDC/ATSDR) announces the aforementioned meeting:

Time and Date: 11 a.m.-1 p.m., Eastern Standard Time, March 22, 2012 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the initial review, discussion, and evaluation of applications received in response to “Green Housing Study: Follow-up Measurements of Housing Factors and Respiratory Health of Children Located in Cincinnati and Boston (U01), FOA EH12-001.”

Contact Person for More Information: J. Felix Rogers, Ph.D., M.P.H., Scientific Review Officer, CDC, 4770 Buford Highway NE., Mailstop F63, Atlanta, Georgia 30341, Telephone: (770) 488-4334.

The Director, Management Analysis and Services Office, has been delegated the authority to sign Federal Register notices pertaining to announcements of meetings and other committee management activities, for both the Centers for Disease Control and Prevention and the Agency for Toxic Substances and Disease Registry.

Dated: February 23, 2012.
Elaine L. Baker,
Director, Management Analysis and Services Office, Centers for Disease Control and Prevention.

[FR Doc. 2012-5084 Filed 3-1-12; 8:45 am]

BILLING CODE 4163-18-P